DEPARTMENT OF TRANSPORTATION

Surface Transportation Board

[STB Finance Docket No. 34218 (Sub-No. 1)]

The Burlington Northern and Santa Fe Railway Company—Trackage Rights Exemption-Union Pacific Railroad Company

AGENCY: Surface Transportation Board, DOT.

ACTION: Notice of exemption.

SUMMARY: The Board, under 49 U.S.C. 10502, exempts the trackage rights described in STB Finance Docket No. 34218¹ to permit the trackage rights agreement to expire on August 16, 2002.

¹ On June 10, 2002, The Burlington Northern and Santa Fe Railway Company (BNSF) filed a notice of exemption under the Board's class exemption procedures at 49 CFR 1180.2(d)(7). The notice covered the trackage rights agreement by Union Pacific Railroad Company (UP) to grant temporary overhead trackage rights to BNSF between UP milepost 428.7 at Klamath Falls, OR, and UP milepost 141.9 at Binney Junction (Marysville), CA, a total distance of approximately 286.8 miles. See The Burlington Northern and Santa Fe Railway Company—Trackage Rights Exemption—Union Pacific Railroad Company, STB Finance Docket No. 34218 (STB served June 28, 2002). The trackage rights operations under the exemption became effective and were scheduled to be consummated on June 17, 2002.

DATES: This exemption is effective on August 15, 2002. Petitions to reopen must be filed by August 5, 2002.

ADDRESSES: An original and 10 copies of all pleadings referring to STB Finance Docket No. 34218 (Sub-No. 1) must be filed with the Surface Transportation Board, 1925 K Street, NW., Washington, DC 20423-0001. In addition, a copy of all pleadings must be served on Michael E. Roper, The Burlington Northern and Santa Fe Railway Company, 2500 Lou Menk Drive, P.O. Box 961039, Fort Worth, TX.

FOR FURTHER INFORMATION CONTACT: Joseph H. Dettmar (202) 565-1600. [TDD for the hearing impaired 1-800-877-8339.]

SUPPLEMENTARY INFORMATION: Additional information is contained in the Board's decision. To purchase a copy of the full decision, write to, call, or pick up in person from: Dā 2 Dā Legal Copy Service, Suite 405, 1925 K Street, NW., Washington, DC 20006. Telephone: (202) 293-7776. [Assistance for the hearing impaired is available through TDD services 1-800-877-8339].

Board decisions and notices are available on our website at “http://WWW.STB.DOT.GOV.”

Decided: July 17, 2002.
By the Board, Chairman Morgan and Vice Chairman Burkes.
Vernon A. Williams,
Secretary.

[FR Doc. 02-18551 Filed 7-23-02; 8:45 am]

BILLING CODE 4915-00-P